DEPARTMENT OF HOMELAND SECURITY

Federal Emergency Management Agency

44 CFR Part 64

[Docket No. FEMA-8035]

Suspension of Community Eligibility

AGENCY: Federal Emergency Management Agency, DHS.

ACTION: Final rule.

SUMMARY: This rule identifies communities, where the sale of flood insurance has been authorized under the National Flood Insurance Program (NFIP), that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Mitigation Directorate, Federal Emergency Management Agency, 500 C Street, SW., Washington, DC 20472 (202) 646-2953.

SUPPLEMENTARY INFORMATION: The NFIP enables property owners to purchase flood insurance which is generally not otherwise available. In return, communities agree to adopt and administer local floodplain management aimed at protecting lives and new construction from future flooding. Section 1315 of the National Flood Insurance Act of 1968, as amended, 42 U.S.C. 4022, prohibits flood insurance coverage as authorized under the NFIP, 42 U.S.C. 4001 et seq.; unless an appropriate public body adopts adequate floodplain management measures with effective enforcement measures. The communities listed in this document no longer meet that statutory requirement for compliance with program regulations, 44 CFR part 59. Accordingly, the communities will be suspended on the effective date in the third column. As of that date, flood insurance will no longer be available in the community. However, some of these communities may adopt and submit the required documentation of legally enforceable floodplain management measures after this rule is published but prior to the actual suspension date. These communities will not be suspended and will continue their eligibility for the sale of insurance. A notice withdrawing the suspension of the communities will be published in the Federal Register.

FEMA previously identified the Special Flood Hazard Areas (SFHAs) in these communities by publishing a Flood Insurance Rate Map (FIRM). The date of the FIRM is indicated in the fourth column of the table. No direct Federal financial assistance (except assistance pursuant to the Robert T. Stafford Disaster Relief and Emergency Assistance Act not in connection with a flood) may legally be provided for construction or acquisition of buildings in identified SFHAs for communities not participating in the NFIP and identified for more than a year, on FEMA's initial flood insurance map of the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region III
Pennsylvania:
Beaver, Township of, Columbia County | 421547 | December 29, 1981, Emerg; November 15, 1985, Reg; August 19, 2008, Susp. | August 19, 2008 | August 19, 2008.
Benton, Borough of, Columbia County | 421543 | June 10, 1975, Emerg; October 18, 1983, Reg; August 19, 2008, Susp. | ......do* | do.
Benton, Township of, Columbia County | 421037 | September 10, 1973, Emerg; August 1, 1978, Reg; August 19, 2008, Susp. | ......do | do.
Berwick, Borough of, Columbia County | 420338 | June 20, 1975, Emerg; August 3, 1989, Reg; August 19, 2008, Susp. | ......do | do.
Bloomsburg, Town of, Columbia County | 420339 | March 9, 1972, Emerg; May 1, 1980, Reg; August 19, 2008, Susp. | ......do | do.
Briar Creek, Borough of, Columbia County | 420340 | August 31, 1973, Emerg; August 15, 1979, Reg; August 19, 2008, Susp. | ......do | do.
Briar Creek, Township of, Columbia County | 421548 | August 8, 1975, Emerg; June 19, 1989, Reg; August 19, 2008, Susp. | ......do | do.
Catawissa, Borough of, Columbia County | 420341 | June 21, 1973, Emerg; September 14, 1979, Reg; August 19, 2008, Susp. | ......do | do.
Catawissa, Township of, Columbia County | 420342 | August 20, 1973, Emerg; September 14, 1979, Reg; August 19, 2008, Susp. | ......do | do.
Cleveland, Township of, Columbia County | 421000 | November 5, 1973, Emerg; August 1, 1979, Reg; August 19, 2008, Susp. | ......do | do.
Conyngham, Township of, Columbia County | 421549 | September 7, 1979, Emerg; October 15, 1985, Reg; August 19, 2008, Susp. | ......do | do.
Fishing Creek, Township of, Columbia County | 421550 | August 7, 1975, Emerg; August 3, 1989, Reg; August 19, 2008, Susp. | ......do | do.
Franklin, Township of, Columbia County | 420343 | May 29, 1973, Emerg; August 1, 1979, Reg; August 19, 2008, Susp. | ......do | do.
Greenwood, Township of, Columbia County | 421551 | July 28, 1975, Emerg; March 16, 1989, Reg; August 19, 2008, Susp. | ......do | do.
Hemlock, Township of, Columbia County | 420344 | June 6, 1973, Emerg; August 1, 1979, Reg; August 19, 2008, Susp. | ......do | do.
Jackson, Township of, Columbia County | 421552 | April 26, 1982, Emerg; October 15, 1985, Reg; August 19, 2008, Susp. | ......do | do.
Locust, Township of, Columbia County | 421001 | December 17, 1973, Emerg; August 1, 1979, Reg; August 19, 2008, Susp. | ......do | do.
Madison, Township of, Columbia County | 421553 | September 7, 1976, Emerg; August 3, 1989, Reg; August 19, 2008, Susp. | ......do | do.
Main, Township of, Columbia County | 421554 | October 18, 1979, Emerg; October 15, 1985, Reg; August 19, 2008, Susp. | ......do | do.
Mifflin, Township of, Columbia County | 421167 | April 26, 1974, Emerg; August 15, 1979, Reg; August 19, 2008, Susp. | ......do | do.
Millville, Borough of, Columbia County | 421545 | September 6, 1974, Emerg; June 19, 1989, Reg; August 19, 2008, Susp. | ......do | do.
Montour, Township of, Columbia County | 421002 | November 2, 1973, Emerg; August 1, 1979, Reg; August 19, 2008, Susp. | ......do | do.
Mount Pleasant, Township of, Columbia County | 421042 | February 1, 1974, Emerg; February 18, 1981, Reg; August 19, 2008, Susp. | ......do | do.
North Centre, Township of, Columbia County | 421555 | December 27, 1974, Emerg; October 15, 1985, Reg; August 19, 2008, Susp. | ......do | do.
Orange, Township of, Columbia County | 421003 | September 26, 1973, Emerg; August 1, 1979, Reg; August 19, 2008, Susp. | ......do | do.
Orangeville, Borough of, Columbia County | 420345 | June 11, 1974, Emerg; August 1, 1979, Reg; August 19, 2008, Susp. | ......do | do.
Pine, Township of, Columbia County | 421556 | November 29, 1974, Emerg; April 3, 1989, Reg; August 19, 2008, Susp. | ......do | do.
Roaring Creek, Township of, Columbia County | 421557 | April 30, 1979, Emerg; April 30, 1986, Reg; August 19, 2008, Susp. | ......do | do.
Scott, Township of, Columbia County | 421004 | November 2, 1973, Emerg; September 2, 1981, Reg; August 19, 2008, Susp. | ......do | do.
South Centre, Township of, Columbia County | 421137 | March 19, 1974, Emerg; November 19, 1980, Reg; August 19, 2008, Susp. | ......do | do.
Stillwater, Borough of, Columbia County | 421546 | June 6, 1974, Emerg; August 15, 1989, Reg; August 19, 2008, Susp. | ......do | do.
Sugarloaf, Township of, Columbia County | 421558 | April 3, 1979, Emerg; July 4, 1989, Reg; August 19, 2008, Susp. | ......do | do.
Virginia:
Patrick County, Unincorporated Areas | 510252 | July 19, 1974, Emerg; May 15, 1984, Reg; August 19, 2008, Susp. | ......do | do.
Stuart, Town of, Patrick County | 510111 | August 6, 1974, Emerg; September 1, 1978, Reg; August 19, 2008, Susp. | ......do | do.
Region IV
Kentucky:
Morgan County, Unincorporated Areas | 210292 | May 13, 1975, Emerg; August 5, 1986, Reg; August 19, 2008, Susp. | ......do | do.
North Carolina:
Anson County, Unincorporated Areas | 370284 | August 2, 1979, Emerg; June 18, 1990, Reg; August 19, 2008, Susp. | ......do | do.
Ansonville, Town of, Anson County | 370541 | May 19, 2005, Emerg; —, Reg; August 19, 2008, Susp. | ......do | do.
Peachland, Town of, Anson County | 370285 | October 24, 1979, Emerg; July 1, 1987, Reg; August 19, 2008, Susp. | ......do | do.
Polkton, Town of, Anson County | 370286 | August 12, 2002, Emerg; —, Reg; August 19, 2008, Susp. | ......do | do.
Wadesboro, Town of, Anson County | 370006 | April 25, 1975, Emerg; August 19, 1986, Reg; August 19, 2008, Susp. | ......do | do.
Region V
Illinois:
Alsip, Village of, Cook County | 170055 | January 13, 1975, Emerg; September 17, 1980, Reg; August 19, 2008, Susp. | ......do | do.
Arlington Heights, City of, Cook County | 170056 | January 28, 1972, Emerg; May 1, 1978, Reg; August 19, 2008, Susp. | ......do | do.
Barrington Hills, Village of, Kane County | 170058 | April 3, 1975, Emerg; August 10, 1979, Reg; August 19, 2008, Susp. | ......do | do.
Bartlett, Village of, Cook County | 170059 | October 15, 1974, Emerg; June 15, 1981, Reg; August 19, 2008, Susp. | ......do | do.
Bedford Park, Village of, Cook County | 171007 | July 30, 1980, Emerg; January 13, 1983, Reg; August 19, 2008, Susp. | ......do | do.
Bellwood, Village of, Cook County | 170061 | February 18, 1975, Emerg; December 4, 1979, Reg; August 19, 2008, Susp. | ......do | do.
Bensenville, Village of, Cook County | 170200 | May 22, 1974, Emerg; February 4, 1981, Reg; August 19, 2008, Susp. | ......do | do.
Blue Island, City of, Cook County | 170064 | January 10, 1975, Emerg; July 2, 1980, Reg; August 19, 2008, Susp. | ......do | do.
Broadview, Village of, Cook County | 170067 | March 7, 1975, Emerg; January 16, 1981, Reg; August 19, 2008, Susp. | ......do | do.
Brookfield, Village of, Cook County | 170066 | October 30, 1974, Emerg; December 16, 1980, Reg; August 19, 2008, Susp. | ......do | do.
Burnham, Village of, Cook County | 170070 | March 4, 1975, Emerg; June 1, 1981, Reg; August 19, 2008, Susp. | ......do | do.
Burr Ridge, Village of, Cook County | 170071 | February 24, 1975, Emerg; October 15, 1981, Reg; August 19, 2008, Susp. | ......do | do.
Calumet City, City of, Cook County | 170072 | February 24, 1975, Emerg; April 1, 1980, Reg; August 19, 2008, Susp. | ......do | do.
Calumet Park, Village of, Cook County | 170073 | July 7, 1975, Emerg; February 16, 1979, Reg; August 19, 2008, Susp. | ......do | do.
Chicago, City of, Cook County | 170074 | August 23, 1974, Emerg; June 1, 1981, Reg; August 19, 2008, Susp. | ......do | do.
Chicago Heights, City of, Cook County | 170075 | December 2, 1974, Emerg; November 15, 1979, Reg; August 19, 2008, Susp. | ......do | do.
Cook County, Unincorporated Areas | 170054 | March 9, 1973, Emerg; April 15, 1981, Reg; August 19, 2008, Susp. | ......do | do.
Country Club Hills, City of, Cook County | 170078 | December 10, 1974, Emerg; July 16, 1980, Reg; August 19, 2008, Susp. | ......do | do.
Crestwood, Village of, Cook County | 170080 | June 1, 1973, Emerg; February 18, 1981, Reg; August 19, 2008, Susp. | ......do | do.
Deer Park, Village of, Lake County | 171028 | February 17, 1993, Emerg; September 3, 1997, Reg; August 19, 2008, Susp. | ......do | do.
Deerfield, Village of, Cook County | 170361 | October 13, 1972, Emerg; September 30, 1977, Reg; August 19, 2008, Susp. | ......do | do.
Des Plaines, City of, Cook County | 170081 | October 13, 1972, Emerg; June 15, 1981, Reg; August 19, 2008, Susp. | ......do | do.
Dixmoor, Village of, Cook County | 170082 | July 21, 1975, Emerg; June 4, 1980, Reg; August 19, 2008, Susp. | ......do | do.
Dolton, Village of, Cook County | 170083 | December 18, 1974, Emerg; July 16, 1980, Reg; August 19, 2008, Susp. | ......do | do.
East Dundee, Village of, Kane County | 170323 | May 9, 1975, Emerg; March 16, 1981, Reg; August 19, 2008, Susp. | ......do | do.
East Hazel Crest, Village of, Cook County | 170085 | June 28, 1974, Emerg; September 22, 1978, Reg; August 19, 2008, Susp. | ......do | do.
Elk Grove, Village of, Cook County | 170088 | November 3, 1972, Emerg; June 15, 1979, Reg; August 19, 2008, Susp. | ......do | do.
Elmhurst, City of, Du Page County | 170205 | January 14, 1975, Emerg; February 4, 1981, Reg; August 19, 2008, Susp. | ......do | do.
Elmwood Park, Village of, Cook County | 170089 | June 14, 1974, Emerg; August 15, 1980, Reg; August 19, 2008, Susp. | ......do | do.
Evanston, City of, Cook County | 170090 | March 25, 1975, Emerg; November 26, 1982, Reg; August 19, 2008, Susp. | ......do | do.
Flossmoor, Village of, Cook County | 170091 | December 15, 1972, Emerg; November 5, 1980, Reg; August 19, 2008, Susp. | ......do | do.
Ford Heights, Village of, Cook County | 170084 | April 11, 1975, Emerg; September 29, 1978, Reg; August 19, 2008, Susp. | ......do | do.
Forest Park, Village of, Cook County | 170092 | April 16, 1974, Emerg; September 22, 1978, Reg; August 19, 2008, Susp. | ......do | do.
Frankfort, Village of, Will County | 170701 | April 11, 1974, Emerg; November 1, 1979, Reg; August 19, 2008, Susp. | ......do | do.
Franklin Park, Village of, Cook County | 170094 | April 11, 1973, Emerg; September 15, 1978, Reg; August 19, 2008, Susp. | ......do | do.
Glencoe, Village of, Cook County | 170095 | April 10, 1973, Emerg; December 16, 1980, Reg; August 19, 2008, Susp. | ......do | do.
Glenview, Village of, Cook County | 170096 | January 26, 1973, Emerg; June 15, 1979, Reg; August 19, 2008, Susp. | ......do | do.
Glenwood, Village of, Cook County | 170097 | July 9, 1973, Emerg; June 15, 1978, Reg; August 19, 2008, Susp. | ......do | do.
Golf, Village of, Cook County | 170098 | January 17, 1975, Emerg; November 15, 1979, Reg; August 19, 2008, Susp. | ......do | do.
Harvey, City of, Cook County | 170100 | January 12, 1973, Emerg; April 17, 1978, Reg; August 19, 2008, Susp. | ......do | do.
Hillside, Village of, Cook County | 170104 | July 21, 1975, Emerg; June 11, 1976, Reg; August 19, 2008, Susp. | ......do | do.
Hinsdale, Village of, Cook County | 170105 | April 22, 1975, Emerg; January 16, 1981, Reg; August 19, 2008, Susp. | ......do | do.
Hoffman Estates, Village of, Cook County | 170107 | November 10, 1972, Emerg; May 19, 1981, Reg; August 19, 2008, Susp. | ......do | do.
Homewood, Village of, Cook County | 170109 | November 24, 1972, Emerg; August 15, 1977, Reg; August 19, 2008, Susp. | ......do | do.
Indian Head Park, Village of, Cook County | 170110 | March 31, 1975, Emerg; December 4, 1979, Reg; August 19, 2008, Susp. | ......do | do.
Justice, Village of, Cook County | 170112 | March 20, 1975, Emerg; May 19, 1981, Reg; August 19, 2008, Susp. | ......do | do.
Kenilworth, Village of, Cook County | 170113 | February 14, 1975, Emerg; August 19, 1983, Reg; August 19, 2008, Susp. | ......do | do.
La Grange, Village of, Cook County | 170114 | March 30, 1973, Emerg; November 9, 1979, Reg; August 19, 2008, Susp. | ......do | do.
Lansing, Village of, Cook County | 170116 | January 13, 1975, Emerg; June 1, 1981, Reg; August 19, 2008, Susp. | ......do | do.
Lemont, Village of, Cook County | 170117 | March 6, 1975, Emerg; June 30, 1976, Reg; August 19, 2008, Susp. | ......do | do.
Lincolnwood, Village of, Cook County | 171001 | April 11, 1975, Emerg; April 24, 1979, Reg; August 19, 2008, Susp. | ......do | do.
Lynwood, Village of, Cook County | 170119 | January 30, 1975, Emerg; August 3, 1981, Reg; August 19, 2008, Susp. | ......do | do.
Markham, City of, Cook County | 175169 | April 14, 1972, Emerg; July 27, 1973, Reg; August 19, 2008, Susp. | ......do | do.
Maywood, Village of, Cook County | 170124 | July 22, 1975, Emerg; August 11, 1978, Reg; August 19, 2008, Susp. | ......do | do.
Melrose Park, Village of, Cook County | 170125 | June 20, 1975, Emerg; January 2, 1981, Reg; August 19, 2008, Susp. | ......do | do.
Merrionette Park, Village of, Cook County | 170126 | October 30, 1974, Emerg; September 4, 1985, Reg; August 19, 2008, Susp. | ......do | do.
Midlothian, Village of, Cook County | 170127 | July 30, 1973, Emerg; August 1, 1979, Reg; August 19, 2008, Susp. | ......do | do.
Morton Grove, Village of, Cook County | 170128 | September 12, 1974, Emerg; June 15, 1979, Reg; August 19, 2008, Susp. | ......do | do.
Mount Prospect, Village of, Cook County | 170129 | October 27, 1972, Emerg; August 2, 1982, Reg; August 19, 2008, Susp. | ......do | do.
Niles, Village of, Cook County | 170130 | February 24, 1975, Emerg; June 15, 1979, Reg; August 19, 2008, Susp. | ......do | do.
North Riverside, Village of, Cook County | 170135 | March 24, 1975, Emerg; December 16, 1980, Reg; August 19, 2008, Susp. | ......do | do.
Northbrook, Village of, Cook County | 170132 | December 12, 1973, Emerg; January 17, 1979, Reg; August 19, 2008, Susp. | ......do | do.
Northfield, Village of, Cook County | 170133 | September 18, 1974, Emerg; December 18, 1979, Reg; August 19, 2008, Susp. | ......do | do.
Oak Brook, Village of, Du Page County | 170214 | January 13, 1975, Emerg; February 18, 1981, Reg; August 19, 2008, Susp. | ......do | do.
Oak Forest, City of, Cook County | 170136 | February 2, 1973, Emerg; December 4, 1979, Reg; August 19, 2008, Susp. | ......do | do.
Oak Lawn, Village of, Cook County | 170137 | April 9, 1973, Emerg; January 2, 1981, Reg; August 19, 2008, Susp. | ......do | do.
Olympia Fields, Village of, Cook County | 170139 | August 7, 1974, Emerg; August 1, 1980, Reg; August 19, 2008, Susp. | ......do | do.
Orland Hills, Village of, Cook County | 170172 | February 18, 1975, Emerg; March 15, 1982, Reg; August 19, 2008, Susp. | ......do | do.
Orland Park, Village of, Cook County | 170140 | April 15, 1974, Emerg; February 4, 1981, Reg; August 19, 2008, Susp. | ......do | do.
Palatine, Village of, Cook County | 175170 | December 17, 1971, Emerg; February 16, 1973, Reg; August 19, 2008, Susp. | ......do | do.
Palos Heights, City of, Cook County | 170142 | July 27, 1973, Emerg; July 16, 1980, Reg; August 19, 2008, Susp. | ......do | do.
Park Forest, Village of, Cook County | 170145 | January 12, 1973, Emerg; July 16, 1980, Reg; August 19, 2008, Susp. | ......do | do.
Posen, Village of, Cook County | 170148 | June 11, 1973, Emerg; February 27, 1984, Reg; August 19, 2008, Susp. | ......do | do.
Prospect Heights, City of, Cook County | 170919 | April 5, 1977, Emerg; August 1, 1979, Reg; August 19, 2008, Susp. | ......do | do.
Richton Park, Village of, Cook County | 170149 | December 6, 1973, Emerg; January 16, 1981, Reg; August 19, 2008, Susp. | ......do | do.
River Forest, City of, Cook County | 170151 | July 29, 1974, Emerg; August 11, 1978, Reg; August 19, 2008, Susp. | ......do | do.
River Grove, Village of, Cook County | 170152 | April 1, 1974, Emerg; December 16, 1980, Reg; August 19, 2008, Susp. | ......do | do.
Riverdale, Village of, Cook County | 170150 | January 19, 1973, Emerg; September 29, 1978, Reg; August 19, 2008, Susp. | ......do | do.
Riverside, Village of, Cook County | 170153 | July 19, 1974, Emerg; December 16, 1980, Reg; August 19, 2008, Susp. | ......do | do.
Robbins, Village of, Cook County | 170154 | March 30, 1973, Emerg; November 9, 1979, Reg; August 19, 2008, Susp. | ......do | do.
Rolling Meadows, City of, Cook County | 170155 | May 25, 1973, Emerg; October 17, 1978, Reg; August 19, 2008, Susp. | ......do | do.
Roselle, Village of, Cook County | 170216 | March 2, 1973, Emerg; May 19, 1981, Reg; August 19, 2008, Susp. | ......do | do.
Sauk Village, Village of, Cook County | 170157 | April 30, 1974, Emerg; May 5, 1981, Reg; August 19, 2008, Susp. | ......do | do.
Schaumburg, Village of, Cook County | 170158 | October 13, 1972, Emerg; February 15, 1979, Reg; August 19, 2008, Susp. | ......do | do.
Skokie, Village of, Cook County | 171000 | February 14, 1979, Emerg; February 14, 1979, Reg; August 19, 2008, Susp. | ......do | do.
South Barrington, Village of, Cook County | 170161 | August 1, 1975, Emerg; July 16, 1981, Reg; August 19, 2008, Susp. | ......do | do.
Stickney, Village of, Cook County | 170164 | July 23, 1975, Emerg; February 11, 1983, Reg; August 19, 2008, Susp. | ......do | do.
Stone Park, Village of, Cook County | 170165 | April 28, 1975, Emerg; July 16, 1980, Reg; August 19, 2008, Susp. | ......do | do.
Streamwood, Village of, Cook County | 170166 | April 14, 1975, Emerg; November 19, 1980, Reg; August 19, 2008, Susp. | ......do | do.
Thornton, Village of, Cook County | 170168 | February 14, 1975, Emerg; August 1, 1980, Reg; August 19, 2008, Susp. | ......do | do.
Tinley Park, Village of, Cook County | 170169 | July 25, 1974, Emerg; December 4, 1979, Reg; August 19, 2008, Susp. | ......do | do.
University Park, Village of, Cook County | 170708 | September 24, 1974, Emerg; July 16, 1980, Reg; August 19, 2008, Susp. | ......do | do.
Westchester, Village of, Cook County | 170170 | November 24, 1972, Emerg; June 4, 1980, Reg; August 19, 2008, Susp. | ......do | do.
Western Springs, Village of, Cook County | 170171 | May 9, 1975, Emerg; January 2, 1981, Reg; August 19, 2008, Susp. | ......do | do.
Willow Springs, Village of, Cook County | 170174 | February 24, 1975, Emerg; July 16, 1979, Reg; August 19, 2008, Susp. | ......do | do.
Wilmette, Village of, Cook County | 170175 | October 9, 1973, Emerg; January 14, 1983, Reg; August 19, 2008, Susp. | ......do | do.
Winnetka, Village of, Cook County | 170176 | July 25, 1973, Emerg; November 19, 1980, Reg; August 19, 2008, Susp. | ......do | do.
Ohio:
Amherst, City of, Lorain County | 390347 | April 14, 1975, Emerg; August 1, 1980, Reg; August 19, 2008, Susp. | ......do | do.
Avon, City of, Lorain County | 390348 | December 23, 1975, Emerg; July 12, 1983, Reg; August 19, 2008, Susp. | ......do | do.
Avon Lake, City of, Lorain County | 390602 | February 11, 1974, Emerg; November 2, 1977, Reg; August 19, 2008, Susp. | ......do | do.
Elyria, City of, Lorain County | 390350 | March 28, 1975, Emerg; July 2, 1980, Reg; August 19, 2008, Susp. | ......do | do.
Grafton, Village of, Lorain County | 390614 | September 7, 1979, Emerg; July 2, 1980, Reg; August 19, 2008, Susp. | ......do | do.
Kipton, Village of, Lorain County | 390743 | April 21, 1976, Emerg; September 22, 1978, Reg; August 19, 2008, Susp. | ......do | do.
Lorain, City of, Lorain County | 390351 | June 11, 1973, Emerg; August 15, 1978, Reg; August 19, 2008, Susp. | ......do | do.
Lorain County, Unincorporated Areas | 390346 | —, Emerg; October 14, 1991, Reg; August 19, 2008, Susp. | ......do | do.
North Ridgeville, City of, Lorain County | 390352 | July 7, 1975, Emerg; June 4, 1980, Reg; August 19, 2008, Susp. | ......do | do.
Oberlin, City of, Lorain County | 390353 | September 25, 1974, Emerg; June 18, 1980, Reg; August 19, 2008, Susp. | ......do | do.
Sheffield, Village of, Lorain County | 390354 | July 3, 1975, Emerg; June 18, 1980, Reg; August 19, 2008, Susp. | ......do | do.
Wellington, Village of, Lorain County | 390358 | August 12, 1975, Emerg; June 4, 1980, Reg; August 19, 2008, Susp. | ......do | do.
Wisconsin:
Beloit, City of, Rock County | 555544 | November 27, 1970, Emerg; July 9, 1971, Reg; August 19, 2008, Susp. | ......do | do.
Brodhead, City of, Rock County | 550160 | April 30, 1975, Emerg; September 29, 1989, Reg; August 19, 2008, Susp. | ......do | do.
Burnett County, Unincorporated Areas | 550032 | March 21, 1975, Emerg; November 20, 1991, Reg; August 19, 2008, Susp. | ......do | do.
Edgerton, City of, Rock County | 550365 | June 17, 1975, Emerg; April 15, 1982, Reg; August 19, 2008, Susp. | ......do | do.
Evansville, City of, Rock County | 550366 | February 5, 1975, Emerg; January 18, 1984, Reg; August 19, 2008, Susp. | ......do | do.
Footville, Village of, Rock County | 550575 | March 24, 1975, Emerg; July 3, 1986, Reg; August 19, 2008, Susp. | ......do | do.
Grantsburg, Village of, Burnett County | 550033 | May 14, 1975, Emerg; February 2, 1989, Reg; August 19, 2008, Susp. | ......do | do.
Janesville, City of, Rock County | 555560 | March 26, 1971, Emerg; March 31, 1972, Reg; August 19, 2008, Susp. | ......do | do.
Rock County, Unincorporated Areas | 550363 | February 8, 1974, Emerg; August 1, 1983, Reg; August 19, 2008, Susp. | ......do | do.
Siren, Village of, Burnett County | 550041 | December 15, 2005, Emerg; —, Reg; August 19, 2008, Susp. | ......do | do.
Region VII
Kansas:
Louisburg, City of, Miami County | 200222 | November 9, 1976, Emerg; July 20, 1984, Reg; August 19, 2008, Susp. | ......do | do.
Miami County, Unincorporated Areas | 200220 | November 6, 1995, Emerg; December 1, 2006, Reg; August 19, 2008, Susp. | ......do | do.
Osawatomie, City of, Miami County | 200223 | June 13, 1974, Emerg; September 19, 1984, Reg; August 19, 2008, Susp. | ......do | do.
Paola, City of, Miami County | 200224 | April 16, 1975, Emerg; April 17, 1978, Reg; August 19, 2008, Susp. | ......do | do.
Nebraska:
Arcadia, Village of, Valley County | 310224 | June 4, 1975, Emerg; September 10, 1984, Reg; August 19, 2008, Susp. | ......do | do.
North Loup, Village of, Valley County | 310225 | April 17, 1975, Emerg; August 1, 1987, Reg; August 19, 2008, Susp. | ......do | do.
Ord, City of, Valley County | 310226 | July 16, 1975, Emerg; December 7, 1984, Reg; August 19, 2008, Susp. | ......do | do.
Osceola, City of, Polk County | 310179 | July 30, 1975, Emerg; July 2, 1987, Reg; August 19, 2008, Susp. | ......do | do.
Polk County, Unincorporated Areas | 310468 | July 9, 1999, Emerg; —, Reg; August 19, 2008, Susp. | ......do | do.
Region VIII
South Dakota:
Colman, City of, Moody County | 460106 | July 25, 1975, Emerg; February 11, 1985, Reg; August 19, 2008, Susp. | ......do | do.
Egan, Town of, Moody County | 460061 | February 5, 1975, Emerg; January 22, 1980, Reg; August 19, 2008, Susp. | ......do | do.
Flandreau, City of, Moody County | 460062 | September 13, 1974, Emerg; January 16, 1981, Reg; August 19, 2008, Susp. | ......do | do.
Moody County, Unincorporated Areas | 460235 | September 12, 1974, Emerg; September 4, 1985, Reg; August 19, 2008, Susp. | ......do | do.
Trent, Town of, Moody County | 460063 | February 18, 1975, Emerg; June 4, 1980, Reg; August 19, 2008, Susp. | ......do | do.
*do = Ditto.
Code for reading third column: Emerg.—Emergency; Reg.—Regular; Susp.—Suspension.

Dated: August 6, 2008.
David I. Maurstad,
Assistant Administrator for Mitigation, Department of Homeland Security, Federal Emergency Management Agency.

[FR Doc. E8-19024 Filed 8-15-08; 8:45 am]

BILLING CODE 9110-12-P